FEDERAL MARITIME COMMISSION

[DOCKET NO. 25-04]

China United Lines, Ltd., Complainant v. Amazon.com Services LLC; Amazon Logistics Inc.; and Beijing Century Joyo Courier Service Co., Ltd., Respondents; Notice of Filing of Complaint and Assignment

Served: January 17, 2025.

Notice is given that a complaint has been filed with the Federal Maritime Commission (the “Commission”) by China United Lines, Ltd. (the “Complainant”) against Amazon.com Services LLC, Amazon Logistics Inc., and Beijing Century Joyo Courier Service Co., Ltd. (the “Respondents”). Complainant states that the Commission has subject matter jurisdiction over the complaint pursuant to the Shipping Act of 1984, as amended, 46 U.S.C. 40101 et seq., and personal jurisdiction over Respondents as non-vessel-operating common carriers, as defined in 46 U.S.C. 40102, and as persons, as defined in 46 U.S.C. 41102.

Complainant is a foreign entity existing under the laws of the People's Republic of China with its principal place of business located in Shanghai, China.

Complainant identifies Respondent Amazon.com Services LLC as a limited liability company existing under the laws of the State of Delaware with a business address in Seattle, Washington.

Complainant identifies Respondent Amazon Logistics Inc. as an entity existing under the laws of the State of Delaware with its principal place of business located in Seattle, Washington.

Complainant identifies Respondent Beijing Century Joyo Courier Service Co., Ltd. as a foreign entity existing under the laws of the People's Republic of China with an address located in Beijing, China.

Complainant alleges that Respondents violated 46 U.S.C. 41102(a) and (c) and 41104(a)(1) and (a)(2). Complainant alleges these violations arose from Respondents' attempt to obtain ocean transportation at less than the applicable rates or charges by attempting to revise the reason for their termination of their service contract with Complainant to avoid paying liquidated damages, and other acts or omissions by Respondents.

An answer to the complaint must be filed with the Commission within 25 days after the date of service.

The full text of the complaint can be found in the Commission's electronic Reading Room at https://www2.fmc.gov/readingroom/proceeding/25-04/. This proceeding has been assigned to the Office of Administrative Law Judges. The initial decision of the presiding judge shall be issued by January 20, 2026, and the final decision of the Commission shall be issued by August 3, 2026.

David Eng,
Secretary.

[FR Doc. 2025-01681 Filed 1-23-25; 8:45 am]

BILLING CODE P